DEPARTMENT OF THE TREASURY

Office of the General Counsel; Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Clarissa Potter, Deputy Chief Counsel (Technical)

2. Sara M. Coe, Deputy Division Counsel (Small Business/Self Employed)

3. Curtis Wilson, Associate Chief Counsel (Passthroughs & Special Industries)

4. Andrew Keyso, Deputy Associate Chief Counsel (Income Tax & Accounting)

5. Drita Tonuzi, Deputy Division Counsel (Large & Mid-Size Business)

This publication is required by 5 U.S.C. 4314(c)(4).

Dated: August 23, 2010.
William J. Wilkins,
Chief Counsel, Internal Revenue Service.

[FR Doc. 2010-21325 Filed 8-27-10; 8:45 am]

BILLING CODE 4830-01-P